DEPARTMENT OF ENERGY

Federal Energy Regulatory Commission

[Project Nos. 10855-002, Michigan, and 2589-024, Michigan]

Upper Peninsula Power Company, and Marquette Board of Light and Power; Notice of Availability of Draft Environmental Assessment

April 30, 2002.

In accordance with the National Environmental Policy Act of 1969 and the Federal Energy Regulatory Commission's (Commission) regulations contained in the Code of Federal Regulations (CFR) (18 CFR part 380 [FERC Order No. 486, 52 F.R. 47897]), the Office of Energy Projects Staff (Staff) has reviewed the application for an initial license for the Dead River Project and a new license for the Marquette Project, both located on the Dead River in Marquette County, Michigan, and has prepared a draft environmental assessment (DEA) for the projects. In this DEA, the Staff has analyzed the potential environmental effects of the existing projects and has concluded that licensing the projects, with staff's recommended measures, would not constitute a major federal action significantly affecting the quality of the human environment.

Copies of the DEA are available for review in the Public Reference Branch, Room 2-A, of the Commission's offices at 888 First Street, N.E., Washington, D.C. 20426. This DEA may also be viewed on the Internet at http://www.ferc.gov using the “RIMS” link, select “Docket#” and follow the instructions. Please call (202) 208-2222 for assistance.

Any comments should be filed within 45 days from the date of this notice and should be addressed to Magalie R. Salas, Secretary, Federal Energy Regulatory Commission, 888 First Street, N.E., Washington, D.C. 20426. Please affix “Dead River Project No. 10855-002” and/or “Marquette Project No. 2589-024,” as appropriate, to all comments. For further information, please contact Lee Emery at (202) 219-2779.

Comments, may be filed electronically via the Internet in lieu of paper. See 18 CFR 385.2001(a)(1)(iii) and the instructions on the Commission's web site at http://www.ferc.gov under the “e-Filing” link.

Magalie R. Salas,
Secretary.

[FR Doc. 02-11148 Filed 5-3-02; 8:45 am]

BILLING CODE 6717-01-P